INTERNATIONAL TRADE COMMISSION

[Investigation No. 337-TA-1167]

Certain Laparoscopic Surgical Staplers, Reload Cartridges, and Components Thereof; Notice of Correction Concerning Commission Determination Not To Review an Initial Determination Granting Complainants' Unopposed Motion To Amend the Complaint, Case Caption, and Notice of Investigation

AGENCY: U.S. International Trade Commission.

ACTION: Correction of notice.

SUMMARY: Correction is made to notice 84 FR 65174, which was published on November 26, 2019, to replace the investigation number listed as “337-TA-1100” in the case caption, with “337-TA-1167.”

By order of the Commission.
Issued: December 3, 2019.
Lisa Barton,
Secretary to the Commission.

[FR Doc. 2019-26462 Filed 12-6-19; 8:45 am]

BILLING CODE 7020-02-P